DEPARTMENT OF TRANSPORTATION

Federal Aviation Administration

14 CFR Part 39

[Docket No. FAA-2004-18669; Directorate Identifier 2004-NM-83-AD; Amendment 39-13757; AD 2004-16-01]

RIN 2120-AA64

Airworthiness Directives; Airbus Model A330, A340-200, and A340-300 Series Airplanes

AGENCY: Federal Aviation Administration (FAA), DOT.

ACTION: Final rule; request for comments.

SUMMARY: The FAA is adopting a new airworthiness directive (AD) for certain Airbus Model A330, A340-200, and A340-300 series airplanes. This AD requires repetitive inspections for cracking of the chromed area of the left and right piston rods for the main landing gear (MLG) retraction actuators, and related investigative and corrective actions if necessary. This AD is prompted by reports of the piston rods for the MLG retraction actuators rupturing during flight. We are issuing this AD to detect and correct corrosion pitting and cracking of the piston rods for the MLG retraction actuators, which could result in rupture of a piston rod, non-damped extension of the MLG, high loads on the fully extended MLG, and consequent reduced structural integrity of the MLG.

DATES: Effective August 19, 2004.

The incorporation by reference of certain publications listed in the AD is approved by the Director of the Federal Register as of August 19, 2004.

We must receive comments on this AD by October 4, 2004.

ADDRESSES: Use one of the following addresses to submit comments on this AD.

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Airbus, 1 Rond Point Maurice Bellonte, 31707 Blagnac Cedex, France. You can examine this information at the National Archives and Records Administration (NARA). For information on the availability of this material at NARA, call (202) 741-6030, or go to: http://www.archives.gov/federal_register/code_of_federal_regulations/ibr_locations.html.

You can examine the contents of this AD docket on the Internet at http://dms.dot.gov, or at the Docket Management Facility, U.S. Department of Transportation, 400 Seventh Street, SW., room PL-401, on the plaza level of the Nassif Building, Washington, DC.

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Examining the Dockets

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The Direction Générale de l'Aviation Civile (DGAC), which is the airworthiness authority for France, notified the FAA that an unsafe condition may exist on certain Airbus Model A330, A340-200, and A340-300 series airplanes. The DGAC advises that it has received a report of the flightcrew on a Model A330 series airplane doing a free-fall extension of the main landing gear (MLG) during approach. Investigation revealed a rupture of the piston rod for the left MLG retraction actuator. It was determined that corrosion and cracking caused the rupture. Additional reports indicate that cracking was found on the chromed area of several piston rods; the cracking started from a line of corrosion pitting in the rod bores. These conditions, if not corrected, could result in rupture of a piston rod, non-damped extension of the MLG, and high loads on the fully extended MLG, which could result in reduced structural integrity of the MLG.

The MLG system on Model A340-200 and A340-300 series airplanes is identical to the MLG system on the affected Model A330 series airplanes. Therefore, Model A340-200 and A340-300 series airplanes may be subject to the same unsafe condition identified on the Model A330 series airplanes.

Relevant Service Information

Airbus has issued Service Bulletin A330-32-3173, Revision 01 (for Model A330 series airplanes); and A340-32-4212, Revision 01 (for Model A340-200 and -300 series airplanes); both dated June 16, 2004. The service bulletins describe procedures for repetitive detailed visual inspections for cracking of the chromed area of the left and right piston rods for the MLG retraction actuators. If any cracking is found, the corrective actions include replacing the affected MLG retraction actuator with a new actuator before the next flight.

The service bulletins also describe procedures for related investigative actions. Those procedures include repetitive ultrasonic inspections for corrosion pitting and cracking of the inner surface of the piston rods for the MLG retraction actuators. If any corrosion pitting or cracking is found, the corrective actions include replacing the affected MLG retraction actuator with a new actuator. The compliance time for the corrective action depends on the results of the ultrasonic inspection, and is either before the next flight, or within the next 10 landings.

The service bulletins also include procedures for reporting the results of both the detailed visual and ultrasonic inspections to Airbus.

The DGAC mandated these service bulletins and issued French airworthiness directives F-2004-086 and F-2004-087, both dated June 23, 2004, to ensure the continued airworthiness of these airplanes in France.

Both of the Airbus service bulletins reference Messier-Dowty Service Bulletin A33/34-32-222, including Appendices A and B, dated December 6, 2003, as an additional source of service information for the detailed visual and ultrasonic inspections.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for products of this type design that are certificated for operation in the United States. Therefore, we are issuing this AD to detect and correct corrosion pitting and cracking of the piston rods for the MLG retraction actuators, which could result in rupture of the piston rods, non-damped extension of the MLG, high loads on the fully extended MLG, and consequent reduced structural integrity of the MLG.

This AD requires doing the actions specified in the Airbus service information described previously, except as discussed under “Differences Between the AD and French Airworthiness Directives.” This AD also requires sending certain inspection results to the manufacturer.

Interim Action

We consider this AD to be interim action. The inspection reports that are required by this AD will enable the manufacturer to obtain better insight into the nature, cause, and extent of the corrosion/cracking, and eventually to develop final action to address the unsafe condition. Once final action has been identified, we may consider further rulemaking.

Differences Between the AD and French Airworthiness Directives

The French airworthiness directives do not include compliance times for airplanes equipped with piston rods that have been in service less than 36 months, as of the effective date of the French airworthiness directives. However, the FAA AD includes compliance times for these airplanes. Because this AD is an interim action, we have determined that it is necessary to address airplanes equipped with piston rods that are close to having 36 months in service, as of the effective date of the AD. This difference has been coordinated with the DGAC.

Clarification of Inspection Terminology

The Airbus service bulletins specify to do a “detailed visual inspection” of the chromed area of the piston rods for the MLG retraction actuators. This AD instead requires a “detailed inspection,” which is defined in Note 1 of this AD.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any written relevant data, views, or arguments regarding this AD. Send your comments to an address listed under ADDRESSES. Include “Docket No. FAA-2004-18669; Directorate Identifier 2004-NM-83-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications with you. You can get more information about plain language at http://www/faa.gov/language and http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-16-01 Airbus: Amendment 39-13757. Docket No. FAA-2004-18669; Directorate Identifier 2004-NM-83-AD.

Effective Date

(a) This AD becomes effective August 19, 2004.

Affected ADs

(b) None.

Applicability

(c) This AD applies to Airbus Model A330, A340-200, and A340-300 series airplanes; certificated in any category; equipped with a piston rod, part number (P/N) 114256309 or 114256321, for the main landing gear (MLG) retraction actuators.

Unsafe Condition

(d) This AD was prompted by reports of the piston rods for the MLG retraction actuators rupturing during flight. We are issuing this AD to detect and correct corrosion pitting and cracking of the piston rods for the MLG retraction actuators, which could result in rupture of a piston rod, non-damped extension of the MLG, high loads on the fully extended MLG, and consequent reduced structural integrity of the MLG.

Compliance

(e) You are responsible for having the actions required by this AD performed within the compliance times specified, unless the actions have already been done.

Repetitive Detailed Inspections and Corrective Actions

(f) Before each MLG retraction actuator has been in service 36 months, or within 14 days after the effective date of this AD, whichever is later: Do a detailed inspection for cracking of the chromed area of the left and right piston rod of the MLG retraction actuators. Do the inspection in accordance with the Accomplishment Instructions of Airbus Service Bulletin A330-32-3173, Revision 01 (for Model A330 series airplanes); or A340-32-4212, Revision 01 (for Model A340-200 and -300 series airplanes); both dated June 16, 2004; as applicable. Repeat the inspection thereafter at intervals not to exceed 7 days.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) If any cracking is found during any inspection required by paragraph (f) of this AD: Before further flight, replace the MLG retraction actuator with a new or serviceable part in accordance with the Accomplishment Instructions of Airbus Service Bulletin A330-32-3173, Revision 01 (for Model A330 series airplanes); or A340-32-4212, Revision 01 (for Model A340-200 and -300 series airplanes); both dated June 16, 2004; as applicable.

Related Investigative and Corrective Actions

(h) If no cracking is found during the initial detailed inspection required by paragraph (f) of this AD: At the later of the times specified in paragraphs (h)(1) and (h)(2) of this AD, do an ultrasonic inspection for corrosion pitting or cracking of the inner surface of the piston rods for the MLG retraction actuators. Do the ultrasonic inspection in accordance with the Accomplishment Instructions of Airbus Service Bulletin A330-32-3173, Revision 01 (for Model A330 series airplanes); or A340-32-4212, Revision 01 (for Model A340-200 and -300 series airplanes); both dated June 16, 2004; as applicable. Any corrective action must be done at the times specified in Figure 2 of the applicable service bulletin.

(1) Before each MLG retraction actuator has been in service 36 months.

(2) Within 1,400 flight hours, 250 flight cycles, or 4 months after the effective date of this AD, whichever is first.

Note 2: Airbus Service Bulletins A330-32-3173, Revision 01; and A340-32-4212, Revision 01; reference Messier-Dowty Service Bulletin A33/34-32-222, including Appendices A and B, dated December 6, 2003, as an additional source of service information for doing the detailed and ultrasonic inspections.

(i) Repeat the ultrasonic inspection thereafter at intervals not to exceed 1,400 flight hours, 250 flight cycles, or 4 months after the most recent ultrasonic inspection, whichever is first.

Reporting Requirement

(j) Submit a report of the results (both positive and negative) for any ultrasonic inspection required by paragraph (h) of this AD, and only negative findings for any detailed inspection required by paragraph (f) of this AD. Submit the report to Airbus Customer Services Directorate, Attention: SDC32 Technical Data and Documentation Services, fax +33+ 5 61 93 28 06, or via your resident customer support office. Submit the report at the applicable time specified in paragraph (j)(1) or (j)(2) of this AD. The report must include the inspection results, a description of any discrepancies found, the airplane serial number, and the period of time the affected piston rod has been in service. Under the provisions of the Paperwork Reduction Act of 1980 (44 U.S.C. 3501 et seq.), the Office of Management and Budget (OMB) has approved the information collection requirements contained in this AD and has assigned OMB Control Number 2120-0056.

(1) If the inspection is done after the effective date of this AD: Submit the report within 30 days after the inspection.

(2) If the inspection was done before the effective date of this AD: Submit the report within 30 days after the effective date of this AD.

Parts Installation

(k) As of the effective date of this AD, no person may install a piston rod, part number (P/N) 114256309 or 114256321, for the main landing gear (MLG) retraction actuators, on any airplane, unless the part has been inspected in accordance with paragraphs (f) and (h) of this AD and found free of cracking.

Ultrasonic Inspections Done Per Airbus All Operator's Telex (AOT)

(l) Ultrasonic inspections done in accordance with Airbus AOT A330-32A3172 (for Model A330 series airplanes); or A340-32A4211 (for Model A340-200 and -300 series airplanes); both dated May 22, 2003; are acceptable for compliance with the initial ultrasonic inspection required by paragraph (h) of this AD.

Alternative Methods of Compliance (AMOCs)

(m) The Manager, International Branch, ANM-116, Transport Airplane Directorate, FAA, has the authority to approve AMOCs for this AD, if requested in accordance with the procedures found in 14 CFR 39.19.

Related Information

(n) French airworthiness directives F-2004-086 and F-2004-087, both dated June 23, 2004, also address the subject of this AD.

Material Incorporated by Reference

(o) You must use Airbus Service Bulletin A330-32-3173, Revision 01, dated June 16, 2004; or Airbus Service Bulletin A340-32-4212, Revision 01, dated June 16, 2004; as applicable; to perform the actions that are required by this AD, unless the AD specifies otherwise. The Director of the Federal Register approves the incorporation by reference of these documents in accordance with 5 U.S.C. 552(a) and 1 CFR part 51. For copies of the documents contact Airbus, 1 Rond Point Maurice Bellonte, 31707 Blagnac Cedex, France. You can review copies at the Docket Management Facility, U.S. Department of Transportation, 400 Seventh Street, SW., room PL-401, Nassif Building, Washington, DC; or at the National Archives and Records Administration (NARA). For information on the availability of this material at NARA, call (202) 741-6030, or go to: http://www.archives.gov/federal_register/code_of_federal_regulations/ibr_locations.html.

Issued in Renton, Washington, on July 23, 2004.
Kevin M. Mullin,
Acting Manager, Transport Airplane Directorate, Aircraft Certification Service.

[FR Doc. 04-17623 Filed 8-3-04; 8:45 am]

BILLING CODE 4910-13-P